DEPARTMENT OF COMMERCE

International Trade Administration

[A-570-067]

Forged Steel Fittings From the People's Republic of China: Final Results of Antidumping Duty Administrative Review and Final Determination of No Shipments; 2020-2021

AGENCY: Enforcement and Compliance, International Trade Administration, Department of Commerce.

SUMMARY: The U.S. Department of Commerce (Commerce) determines that Both-Well (Taizhou) Steel Fittings Co., Ltd. (Both-Well) as well as four additional companies which are eligible for a separate rate, exporters of forged steel fittings from the People's Republic of China (China), sold subject merchandise in the United States at prices below normal value (NV) during the period of review (POR) November 1, 2020, through October 31, 2021. Commerce further determines that Jiangsu Forged Pipe Fittings Co., Ltd. (Jiangsu) had no shipments of subject merchandise during the POR, and 20 companies for which this review was initiated are not eligible for a separate rate and are thus part of the China-wide entity.

DATES: Applicable April 19, 2023.

FOR FURTHER INFORMATION CONTACT: Robert Palmer, AD/CVD Operations, Office VIII, Enforcement and Compliance, International Trade Administration, U.S. Department of Commerce, 1401 Constitution Avenue NW, Washington, DC 20230; telephone: (202) 482-0968.

SUPPLEMENTARY INFORMATION:

Background

Commerce published the Preliminary Results ¹ on December 7, 2022, and invited interested parties to comment. For a complete description of the events that occurred since the Preliminary Results, see the Issues and Decision Memorandum.²

¹ See Forged Steel Fittings from the People's Republic of China: Preliminary Results of Antidumping Duty Administrative Review, Preliminary Determination of No Shipments; 2020-2021, 87 FR 75034 (December 7, 2022) (Preliminary Results), and accompanying Preliminary Decision Memorandum (PDM).

² See Memorandum, “Decision Memorandum for the Final Results of Antidumping Duty Administrative Review: Forged Steel Fittings from the People's Republic of China; 2020-2021,” dated concurrently with, and hereby adopted by, this notice (Issues and Decision Memorandum).

Scope of the Order ³

³ See Forged Steel Fittings from Italy and the People's Republic of China: Antidumping Duty Orders, 83 FR 60397, dated November 26, 2018 (Order).

The merchandise covered by the Order is forged steel fittings from China. For a complete description of the scope of the Order, see the Issues and Decision Memorandum.

Analysis of Comments Received

All issues raised in the parties' briefs are addressed in the Issues and Decision Memorandum. A list of the issues addressed is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain revisions to the margin calculations for Both-Well.⁴ For a discussion of these changes, see the Issues and Decision Memorandum.

⁴ See Memorandum, “Antidumping Duty Administrative Review of Forged Steel Fittings from the People's Republic of China: Final Results Calculation Memorandum for Both-Well,” dated concurrently with this notice.

Final Determination of No Shipments

In the Preliminary Results, we preliminarily determined that Jiangsu had no shipments of subject merchandise to the United States during the POR.⁵ No party filed comments with respect to this preliminary determination and we received no information to contradict the preliminary finding. Therefore, we continue to find that Jiangsu had no shipments of subject merchandise during the POR and will issue appropriate liquidation instructions that are consistent with our “automatic assessment” clarification for these final results.⁶

⁵ See Preliminary Results, 87 FR at 75035.

⁶ See Non-Market Economy Antidumping Proceedings: Assessment of Antidumping Duties, 76 FR 65694 (October 24, 2011) (Assessment Practice Refinement).

Separate Rate

In our Preliminary Results, we determined that the following companies demonstrated their eligibility for separate rates: Both-Well; Lianfa Stainless Steel Pipes & Valves (Qingyun) Co., Ltd.; Qingdao Bestflow Industrial Co., Ltd.; Xin Yi International Trade Co., Limited; and Yingkou Guangming Pipeline Industry Co., Ltd.⁷ We received no arguments since the issuance of the Preliminary Results that provide a basis for reconsideration of these determinations. Therefore, for these final results, we continue to find that the five companies listed in the table in the “Final Results” section of this notice are each eligible for a separate rate.

⁷ See Preliminary Results PDM at 6-7.

The China-Wide Entity

In the Preliminary Results, Commerce found that 20 companies for which a review was initiated did not establish their eligibility for a separate rate.⁸ No parties contested this finding. As such, we continue to determine these 20 companies identified in Appendix II are part of the China-wide entity. Because no party requested a review of the China-wide entity, and Commerce no longer considers the China-wide entity as an exporter conditionally subject to administrative reviews,⁹ we did not conduct a review of the China-wide entity. Thus, the weighted-average dumping margin for the China-wide entity rate (i.e., 142.72 percent) is not subject to change.¹⁰

⁸ Id. at 8.

⁹ See Antidumping Proceedings: Announcement of Change in Department Practice for Respondent Selection in Antidumping Duty Proceedings and Conditional Review of the Nonmarket Economy Entity in NME Antidumping Duty Proceedings, 78 FR 65963, 65969-70 (November 4, 2013).

¹⁰ See Order, 83 FR at 60397.

Rate for Non-Examined Separate Rate Respondents

In the Preliminary Results,¹¹ and consistent with Commerce's practice,¹² we assigned the non-examined, separate rate companies a rate equal to the calculated weighted-average dumping margin for the mandatory respondent whose rate was not zero, de minimis (i.e., less than 0.5 percent), or based entirely on facts available (i.e., the weighted-average dumping margin for Both-Well). No parties commented on the methodology for calculating this separate rate. For the final results, we continue to apply this approach, as it is consistent with the intent of, and our use of, section 735(c)(5)(A) of the Tariff Act of 1930, as amended (the Act).¹³

¹¹ See Preliminary Results PDM at 7-8.

¹² See, e.g., Certain Kitchen Appliance Shelving and Racks from the People's Republic of China: Final Determination of Sales at Less Than Fair Value, 74 FR 36656, 36660 (July 24, 2009).

¹³ See Certain Frozen Warmwater Shrimp from the Socialist Republic of Vietnam: Final Results and Final Partial Rescission of Antidumping Duty Administrative Review, 76 FR 56158, 56160 (September 12, 2011).

Final Results of Review

For companies subject to this review, which established their eligibility for a separate rate, Commerce determines that the following weighted-average dumping margins exist for the period November 1, 2020, through October 31, 2021:

Exporter | Weighted- average dumping margin (percent)
Both-Well (Taizhou) Steel Fittings Co., Ltd | 29.06
Review-Specific Rate Applicable to the Following Companies:
Lianfa Stainless Steel Pipes & Valves (Qingyun) Co., Ltd | 29.06
Qingdao Bestflow Industrial Co., Ltd | 29.06
Xin Yi International Trade Co., Limited | 29.06
Yingkou Guangming Pipeline Industry Co., Ltd | 29.06

Disclosure

We intend to disclose the calculations performed to interested parties in this proceeding under an administrative protective order (APO) within five days of the date of publication of this notice in accordance with 19 CFR 351.224(b).

Assessment Rates

Pursuant to section 751(a)(2)(C) of the Act and 19 CFR 351.212(b), Commerce has determined, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For Both-Well, which has a final weighted-average dumping margin that is not zero or de minimis (i.e., less than 0.5 percent), we will calculate importer-specific ad valorem assessment rates by dividing the total amount of dumping calculated for all reviewed U.S. sales to the importer by the total entered value of the merchandise sold to the importer by Both-Well, in accordance with 19 CFR 351.212(b)(1). Where Both-Well did not report entered value, we will calculate importer-specific per-unit duty assessment rates based on the ratio of the total amount of dumping calculated for the examined sales to the importer to the total sales quantity associated with those sales. To determine whether an importer-specific per-unit assessment rate is de minimis, in accordance with 19 CFR 351.106(c)(2), we also will calculate an importer-specific ad valorem ratio based on estimated entered values. Where an importer-specific assessment rate is zero or de minimis, we will instruct CBP to liquidate the appropriate entries without regard to antidumping duties.¹⁴

¹⁴ See 19 CFR 351.106(c)(2).

For the respondents which were not selected for individual examination in this administrative review, and which qualified for a separate rate, the assessment rate will be equal to the weighted-average dumping margin assigned to them for the final results (i.e., 29.06 percent). For the companies identified as part of the China-wide entity, we will instruct CBP to apply an ad valorem assessment rate of 142.72 percent to all POR entries of subject merchandise which was exported by those companies.

Pursuant to a refinement in our non-market economy practice, for sales that were not reported in the U.S. sales data submitted by Both-Well during this review, we will instruct CBP to liquidate entries associated with those sales at the rate for the China-wide entity.¹⁵ Furthermore, where we found that an exporter under review had no shipments of the subject merchandise, any suspended entries that entered under that exporter's case number (i.e., at that exporter's cash deposit rate) will be liquidated at the rate for the China-wide entity.¹⁶

¹⁵ See Assessment Practice Refinement, 76 FR at 65694 for a full discussion of this practice.

¹⁶ Id.

Cash Deposit Requirements

The following cash deposit requirements will be effective upon publication of the final results of this administrative review for shipments of the subject merchandise from China entered, or withdrawn from warehouse, for consumption on or after the publication date, as provided by section 751(a)(2)(C) of the Act: (1) for Both-Well and the non-examined separate rate respondents, the cash deposit rate will be 29.06 percent; (2) for previously examined Chinese and non-Chinese exporters not listed above that have separate rates, the cash deposit rate will continue to be the exporter-specific rate published for the most recently completed segment of this proceeding; (3) for all Chinese exporters of subject merchandise that have not been found to be entitled to a separate rate, the cash deposit rate will be the rate for the China-wide entity (i.e., 142.72 percent); and (4) for all non-Chinese exporters of subject merchandise which have not received their own separate rate, the cash deposit rate will be the rate applicable to the Chinese exporter that supplied that non-Chinese exporter.

These cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification Regarding APO

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

These final results and notice are issued and published in accordance with sections 751(a)(1) and 777(i)(1) of the Act, and 19 CFR 351.213(h) and 19 CFR 351.221(b)(5).

Dated: April 12, 2023.
Lisa W. Wang,
Assistant Secretary for Enforcement and Compliance.

Appendix I

List of Topics Discussed in the Issues and Decision Memorandum

I. Summary

II. Background

III. Scope of the Order

IV. Changes Since the Preliminary Results

V. Discussion of the Issues

Comment 1: Universe of U.S. Sales

Comment 2: Labor Surrogate Value (SV)

Comment 3: Adjustment of U.S. Price for Export Subsidies

VI. Recommendation

Appendix II

Companies Not Eligible for a Separate Rate

1. Cixi Baicheng Hardware Tools, Ltd.

2. Dalian Guangming Pipe Fittings Co., Ltd.

3. Eaton Hydraulics (Luzhou) Co., Ltd.

4. Eaton Hydraulics (Ningbo) Co., Ltd.

5. Jiangsu Haida Pipe Fittings Group Co.

6. Jinan Mech Piping Technology Co., Ltd.

7. Jining Dingguan Precision Parts Manufacturing Co., Ltd.

8. Luzhou City Chengrun Mechanics Co., Ltd.

9. Ningbo HongTe Industrial Co., Ltd.

10. Ningbo Long Teng Metal Manufacturing Co., Ltd.

11. Ningbo Save Technology Co., Ltd.

12. Ningbo Zhongan Forging Co., Ltd.

13. Q.C. Witness International Co., Ltd.

14. Shanghai Lon Au Stainless Steel Materials Co., Ltd.

15. Witness International Co., Ltd.

16. Yancheng Boyue Tube Co., Ltd.

17. Yancheng Haohui Pipe Fittings Co., Ltd.

18. Yancheng Jiuwei Pipe Fittings Co., Ltd.

19. Yancheng Manda Pipe Industry Co., Ltd.

20. Yuyao Wanlei Pipe Fitting Manufacturing Co., Ltd.

[FR Doc. 2023-08230 Filed 4-18-23; 8:45 am]

BILLING CODE 3510-DS-P